DEPARTMENT OF COMMERCE

National Oceanic and Atmospheric Administration

[RTID 0648-XX054]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application from the Ocean Associated Incorporated contains all of the required information and warrants further consideration. The Exempted Fishing Permit would allow one commercial fishing vessel to fish outside of fishery regulations in support of research conducted by the applicant.

Regulations under the Magnuson-Stevens Fishery Conservation and Management Act require publication of this notification to provide interested parties the opportunity to comment on applications for proposed Exempted Fishing Permits.

DATES: Comments must be received on or before July 1, 2020.

ADDRESSES: You may submit written comments by following method:

• Email: nmfs.gar.efp@noaa.gov. Include in the subject line “Comments on OAIRopeless Fishing EFP.”

FOR FURTHER INFORMATION CONTACT: Laura Hansen, Fishery Management Specialist, 978-281-9225.

SUPPLEMENTARY INFORMATION: The Ocean Associates Incorporated (OAI) submitted a complete application for an Exempted Fishing Permit (EFP) on March 12, 2020, to conduct commercial fishing activities that the regulations would otherwise restrict. The OAI is requesting an exemption from Federal lobster regulations that would authorize a federally-permitted commercial lobster vessel to participate in a ropeless lobster gear study. This EFP would exempt the participating vessel from the Federal gear marking requirements found at 50 CFR 697.21(b)(2). This would allow for the use of a single buoy marker on a trawl of more than three traps.

The purpose of this study is to test a prototype ropeless fishing system to potentially prevent entanglements of protected species, primarily North Atlantic right whales. This is a continuation of a study that started in 2018. The traps were deployed on a commercial fishing vessel in 2019 to get fishermen confident in deploying the gear. The trawl was deployed nine times with soak times ranging from 9-20 minutes in an average depth of 120 ft (36.5 m). The spool performed as designed and was retrieved easily with all deployments. This study is funded through the NMFS Bycatch Reduction Engineering Program (NA18NMF4720279).

The EFP would authorize the participating vessel to deploy two experimental trawls consisting of five or more traps. Experimental trawls would have a rope spool, fitted with an acoustic release, deployed on one end of the trawl, with a buoy line attached to the other. Soak time would be between 2-5 days, but may be modified depending on what each fisherman decides is appropriate for fishing. Sampling would occur from May through November 2020 in Lobster Conservation Management Area 3. Initial deployments would be overseen by a Woods Hole Oceanographic Institute engineering team, but later would be observed by OAI personnel. There would be 42 deployments of experimental trawls.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: June 10, 2020.
Hélène M.N. Scalliet,
Acting Director, Office of Sustainable Fisheries, National Marine Fisheries Service.

[FR Doc. 2020-12897 Filed 6-15-20; 8:45 am]

BILLING CODE 3510-22-P